DEPARTMENT OF AGRICULTURE

Office of the Secretary

Privacy Act of 1974; Abolish Obsolete System of Records

AGENCY: Office of the Secretary, USDA.

ACTION: Notice of abolishment of U.S. Department of Agriculture System of Records USDA/FS-05 Certified Cost Collectors record system.

SUMMARY: The records formerly maintained in this Privacy Act System of Records, USDA/FS-05 Certified Cost Collectors are no longer maintained, and the System of Records is obsolete. Therefore, this system is being abolished and removed from the inventory of USDA System of Records in accordance with the Privacy Act of 1974 (5 U.S.C. 552a), as amended.

DATES: This notice is effective on September 11, 2008.

ADDRESSES: For additional information contact the Director of Forest Management, Forest Service, U.S. Department of Agriculture, 1400 Independence Avenue, SW., Mailstop 1103, Washington, DC 20250-1103.

FOR FURTHER INFORMATION CONTACT: The Director of Forest Management, Forest Service, U.S. Department of Agriculture, telephone: (202) 205-0893; or e-mail to wo_foia@fs.fed.us.

SUPPLEMENTARY INFORMATION: The Privacy Act of 1974 (5 U.S.C. 552a), as amended, requires that each agency publish a notice of the existence and character of each new or altered “system of records.” 5 U.S.C. 552a(a)(5). This notice identifies and abolishes a U.S. Department of Agriculture discontinued and obsolete system of records, USDA/FS-05 Certified Cost Collectors. The records formerly maintained in this System of Records have been destroyed according to the Federal Records Disposal Act of 1943 (44 U.S.C. 366-380) and the Federal Records Act of 1950, and as designated in the Forest Service Records Management Handbook (FSH) 6209.11.

Dated: August 29, 2008.
Edward T. Schafer,
Secretary.

[FR Doc. E8-21214 Filed 9-10-08; 8:45 am]

BILLING CODE 3410-11-P